DEPARTMENT OF THE INTERIOR

U.S. Geological Survey

Announcement of National Geospatial Advisory Committee Meeting

AGENCY: U.S. Geological Survey, Interior.

ACTION: Notice of meeting.

SUMMARY: The National Geospatial Advisory Committee (NGAC) will meet on February 4-5, 2009 at the Hotel Monaco, 480 King Street, Alexandria, VA 22314. The meeting will be held in the Paris West Room.

The NGAC, which is composed of representatives from governmental, private sector, non-profit, and academic organizations, was established to advise the Chair of the Federal Geographic Data Committee on management of Federal geospatial programs, the development of the National Spatial Data Infrastructure, and the implementation of Office of Management and Budget (OMB) Circular A-16. Topics to be addressed at the meeting include:

—Transition Activities

—The National Map

—OMB Circular A-16 Supplemental Guidance

—NGAC Vision

—Land Parcel Data Update

—Geospatial Partnerships

—NGAC Communications Activities

—NGAC Action Plan

The meeting will include an opportunity for public comment during the afternoon of February 5. Comments may also be submitted to the NGAC in writing.

Members of the public who wish to attend the meeting must register in advance. Please register by contacting Arista Maher at the U.S. Geological Survey (703-648-6283, amaher@usgs.gov). Registrations are due by January 30, 2009. While the meeting will be open to the public, seating may be limited due to room capacity.

DATES: The meeting will be held from 8:30 a.m. to 5 p.m. on February 4 and from 8 a.m. to 4 p.m. on February 5.

FOR FURTHER INFORMATION CONTACT: John Mahoney, U.S. Geological Survey (206-220-4621).

SUPPLEMENTARY INFORMATION: Meetings of the National Geospatial Advisory Committee are open to the public. Additional information about the NGAC and the meeting is available at http://www.fgdc.gov/ngac.

Dated: January 12, 2009.
Ivan DeLoatch,
Staff Director, Federal Geographic Data Committee.

[FR Doc. E9-918 Filed 1-15-09; 8:45 am]

BILLING CODE 4311-AM-P